DEPARTMENT OF DEFENSE

National Security Agency

Privacy Act of 1974; System of Records

AGENCY: National Security Agency/Central Security Service, DOD.

ACTION: Notice to add a system of records.

SUMMARY: The National Security Agency/Central Security Service proposes to add a system of records notice to its inventory of record systems subject to the Privacy Act of 1974 (5 U.S.C. 552a), as amended.

DATES: This action will be effective on June 14, 2002 unless comments are received that would result in a contrary determination.

ADDRESSES: Send comments to the National Security Agency, Office of Policy, 9800 Savage Road, Suite 6248, Ft. George G. Meade, MD 20755-6248.

FOR FURTHER INFORMATION CONTACT: Ms. Anne Hill at (301) 688-6527.

SUPPLEMENTARY INFORMATION: The National Security Agency's record system notices for records systems subject to the Privacy Act of 1974 (5 U.S.C. 552a), as amended, have been published in the Federal Register and are available from the address above.

The proposed system report, as required by 5 U.S.C. 552a(r) of the Privacy Act, was submitted on May 7, 2002, to the House Committee on Government Reform, the Senate Committee on Governmental Affairs, and the Office of Management and Budget (OMB) pursuant to paragraph 4c of Appendix I to OMB Circular No. A-130, ‘Federal Agency Responsibilities for Maintaining Records About Individuals,’ dated February 8, 1996, (61 FR 6427, February 20, 1996).

Dated: May 8, 2002.
Patricia L. Toppings,
Alternate OSD Federal Register Liaison Officer, Department of Defense.

GNSA 19

System name:

Child Development Services.

System location:

National Security Agency/Central Security Service, Ft. George G. Meade, MD 20755-6000.

Categories of individuals covered by the system:

Children and their sponsors (NSA/CSS civilian employees, military assignees, non-appropriated fund instrumentality (NAFI) personnel, employees of other Federal agencies, and contractor employees); and individual day care providers at the NSA/CSS day care facility.

Categories of records in the system:

Records kept on the child include enrollment information and attendance records; medical care authorizations; names of family members; preferred activities and foods; photos; emergency forms and release authorizations; child care information as reported by the sponsor; physical health information, including allergies; custody paperwork (if applicable); special needs instructions; progress and report cards; and incident reports of injuries.

Records kept on the sponsor include: sponsor's name, grade or rank; Social Security Number; home and work addresses; home and work telephone numbers; contact information; employment affiliation (civilian, military, other, etc.); application identification number; photos; and comments/remarks related to the sponsor's status on the waiting list. Similar information is kept on other family members, as provided by the sponsor.

Records kept on day care providers and other contractors include: name; home and work addresses; home, cellular, and work telephone numbers; email addresses; citizenship; date and place of birth; social security number; physical characteristics; military service records; previous employment/duty/volunteer experience; results of local and national security/police file checks; drug, alcohol use, and mental health information; and vendor employment application forms, which include references, automobile operator's and educational information.

Authority for maintenance of the system:

National Security Agency Act of 1959, 50 U.S.C. 402 note (Pub.L. 86-36) and 403 (Pub. L. 80-253); 5 U.S.C. 301, Departmental Regulations; DoD Instruction 6060.2, Child Development Programs; NSA/CSS Reg. No. 30-34, Child Development Programs; and E.O. 9397 (SSN).

Purpose(s):

To develop childcare programs that meets the needs of NSS/CSS employees and their families; provide child and family program eligibility and background information; record consent for access to emergency medical care and information. Information may also be used to verify health status of children, verify immunizations, note special program requirements, compliance with USDA food standards.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

The DoD ‘Blanket Routine Uses’ set forth at the beginning of the NSA/CSS' compilation of systems of records notices apply to this system.

Policies and practices for storing, retrieving, accessing, retaining, and disposing of records in the system:

Storage:

Records are maintained in paper files and on electronic mediums.

Retrievability:

By parent or child's name, and Social Security Number.

Safeguards:

The NSA/CSS Fort Meade facility is secured by a series of guarded pedestrian gates and checkpoints. Access to the facility is limited to security cleared personnel and escorted visitors only. Within the facility itself, access to paper and computer printouts is controlled by limited-access facilities and lockable containers. Access to electronic mediums is controlled by computer password protection.

Access to information is limited to those individuals specifically authorized and granted access by NSA/CSS regulations. For records on the computer system, access is controlled by passwords and limited to authorized personnel only.

Retention and disposal:

Disposition pending (until NARA has approved a retention and disposal schedule for these records, the records will be treated as permanent).

System manager(s) and address:

Deputy Director of Policy, National Security Agency/Central Security Service, 9800 Savage Road, Suite 6248, Ft. George G. Meade, MD 20755-6248.

Notification procedure:

Individuals seeking to determine whether records about themselves are contained in this record system should address written inquires to the Deputy Director of Policy, National Security Agency/Central Security Service, 9800 Savage Road, Suite 6248, Ft. George G. Meade, MD 20755-6248.

Written inquiries should include the parent or child's name, along with his or her Social Security Number.

Record access procedures:

Individuals seeking access to records about themselves contained in this record system should address written inquiries to the Deputy Director of Policy, National Security Agency/Central Security Service, 9800 Savage Road, Suite 6248, Ft. George G. Meade, MD 20755-6248.

Written inquiries should include the parent or child's name, along with his or her Social Security Number.

Contesting record procedures:

The NSA/CSS rules for accessing records, and for contesting contents and appealing initial determinations are published at 32 CFR part 322 or may be obtained from the Deputy Director of Policy, National Security Agency/Central Security Service, 9800 Savage Road, Suite 6248, Ft. George G. Meade, MD 20755-6248.

Record source categories:

Individuals themselves; parents or guardians of individuals enrolled in day care programs; NSA personnel; medical providers who have provided information about family members needing or receiving care; and contractor personnel and/or teachers.

Exemptions claimed for the system:

None.

[FR Doc. 02-12055 Filed 5-14-02; 8:45 am]

BILLING CODE 5001-08-P